NATIONAL SCIENCE FOUNDATION

Committee Management Renewals

The NSF management officials having responsibility for the advisory committees listed below have determined that renewing these groups for another two years is necessary and in the public interest in connection with the performance of duties imposed upon the Director, National Science Foundation (NSF), by 42 U.S.C. 1861 et seq. This determination follows consultation with the Committee Management Secretariat, General Services Administration.

Committees:

Advisory Committee for Biological Sciences, 1110.

Advisory Committee for Cyberinfrastructure, 25150.

Advisory Committee for Education and Human Resources, 1119.

Advisory Committee for Engineering, 1170.

Advisory Committee for Geosciences, 1755.

Advisory Committee for Polar Programs, 1130.

Advisory Panel for Integrative Activities, 1373.

Alan T. Waterman Award Committee, 1172.

Proposal Review Panel for Atmospheric Sciences, 10751.

Proposal Review Panel for Behavioral and Cognitive Sciences, 10747.

Proposal Review Panel for Biological Infrastructure, 10743.

Proposal Review Panel for Earth Sciences, 1569.

Proposal Review Panel for Environmental Biology, 10744.

Proposal Review Panel for Geosciences, 1756.

Proposal Review Panel for Integrative Organismal Systems, 10745.

Proposal Review Panel for International Science and Engineering, 10749.

Proposal Review Panel for Molecular and Cellular Biosciences, 10746.

Proposal Review Panel for Ocean Sciences, 10752.

Proposal Review Panel for Research on Learning in Formal and Informal Settings, 59.

Proposal Review Panel for Social Behavioral and Economic Sciences, 1766.

Proposal Review Panel for Social and Economic Sciences, 10748.

Effective date for renewal is July 2, 2009. For more information, please contact Susanne Bolton, NSF, at (703) 292-7488.

Dated: June 29, 2009.
Susanne Bolton,
Committee Management Officer.

[FR Doc. E9-15656 Filed 7-1-09; 8:45 am]

BILLING CODE 7555-01-P